DEPARTMENT OF TRANSPORTATION

Federal Aviation Administration

Ninth Meeting: RTCA Special Committee 222, Inmarsat Aeronautical Mobile Satellite (Route) Services

AGENCY: Federal Aviation Administration (FAA), U.S. Department of Transportation (DOT).

ACTION: Meeting Notice of RTCA Special Committee 222, Inmarsat Aeronautical Mobile Satellite (Route) Services.

SUMMARY: The FAA is issuing this notice to advise the public of the Ninth meeting of RTCA Special Committee 222, Inmarsat Aeronautical Mobile Satellite (Route) Services.

DATES: The meeting will be held June 12-13, 2012, from 8:30 a.m.-3:00 p.m.

ADDRESSES: The meeting will be held at JW Marriott Hotel, 1109 Brickell Avenue Miami, FL 33131.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 222. The agenda will include the following:

June 12, 2012

1:00 a.m.-5:00 p.m.

June 13, 2012

8:30 a.m.-12:00 p.m.

• Greetings & Attendance

• Review report of November 2011 meeting.

• Chair report on PMC actions

• Detailed review of generic MASPS draft. This completely redesigned MASPS draft is the result of direction received at the March 21, 2011 meeting of the PMC. A detailed review and informal approval of the document is expected at this meeting, to facilitate timely progress on Inmarsat SwiftBroadband-specific material.

• Status and update on SBB-specific material for MASPS.

• Status and update of SBB-specific material for DO-262A

• Other items

• Schedule for 10th Plenary

• Plenary Adjourns

• A meeting of SC-222 leadership team will be held on Wednesday morning. The room can be available for informal working sessions leading to progress on the DO-262A MOPS, modifications to the DO-210D MOPS, and/or SwiftBroadband-specific material in accordance with the draft generic MASPS. The room will be available through 12 Noon on Wednesday for informal working group meetings in parallel with scheduled meetings of the Inmarsat Aero Conference, if desired.

*This meeting is being held in parallel with the Inmarsat Aero Conference to facilitate the in-person participation of as many equipment manufacturers as practical. Attendance at the SC-222 meeting does not include admittance to the Inmarsat Aero Conference.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 9, 2012.
John Raper,
Manager, Business Operations Branch, Federal Aviation Administration.

[FR Doc. 2012-12057 Filed 5-18-12; 8:45 am]

BILLING CODE 4910-13-P